NUCLEAR REGULATORY COMMISSION

[Docket Nos. 50-315 AND 50-316]

Indiana Michigan Power Co.; Notice of Consideration of Issuance of Amendments to Facility Operating Licenses, Proposed No Significant Hazards Consideration Determination, and Opportunity for a Hearing

The U.S. Nuclear Regulatory Commission (the Commission) is considering issuance of amendments to Facility Operating Licenses No. DPR-58 and DPR-74, issued to Indiana Michigan Power Company (I&M, the licensee), for operation of the Donald C. Cook Nuclear Plant, Units 1 and 2, located in Bridgman, Michigan.

The proposed amendments would revise Technical Specification (TS) 3.3.1.1, Table 3.3-1, Action 2a, to increase the amount of time allowed to place an inoperable power range neutron flux channel in the tripped condition from one hour to six hours.

In its application, I&M explained why it could not have foreseen the need for these amendments. The proposed TS change is being requested on an exigent basis because I&M recently discovered that the surveillance test procedure for the quarterly power range neutron flux channel calibration, required by TS 4.3.1.1.1, Table 4.3-1, was not being performed in accordance with TS 3.3.1.1, Table 3.3-1, Action 2a. I&M has determined this to be reportable under 10 CFR 50.73(a)(2)(i)(B). I&M states that the problem exists with the quarterly power range neutron flux channel calibration surveillance, defined by TS 1.9. The manner in which the testing is performed requires the detector to be disconnected from the instrumentation. This makes the channel inoperable. Since the channel calibration takes longer than one hour to perform, the channel is placed in the tripped condition. To complete the test, the channel must be taken out of the tripped condition prior to reconnecting the detector input. The channel remains inoperable because it is disconnected; thus, Action 2a can not be met. I&M performed a review of the surveillance test procedure and concluded that the test cannot be performed in a manner that is consistent with meeting the current one-hour completion requirement of Action 2a. In order to restore compliance with the TS, the one-hour completion requirement should be increased to a time that would allow completion of the required testing. The next surveillance is due August 12, 2001, which includes the 25 percent extension allowed by TS 4.0.2. I&M could not have avoided the exigency due to the short duration between when the problem was discovered and the date when the next surveillance is due.

The staff has determined that the licensee used its best efforts to make a timely application for the proposed changes and that exigent circumstances do exist and were not the result of any intentional delay on the part of the licensee.

Before issuance of the proposed license amendment, the Commission will have made findings required by the Atomic Energy Act of 1954, as amended (the Act) and the Commission's regulations.

Pursuant to 10 CFR 50.91(a)(6) for amendments to be granted under exigent circumstances, the Nuclear Regulatory Commission (NRC) staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the change involve a significant increase in the probability of occurrence or consequences of an accident previously evaluated?

The change involves an increase in the amount of time allowed prior to placing an inoperable reactor protection channel in a tripped condition. By placing a channel in a tripped condition when the channel is inoperable, it places the reactor protection system from two-out-of-four reactor trip logic to one-out-of-three reactor trip logic. This places the reactor closer to a tripped condition if a spurious signal should occur on one of the other channels. By not placing the reactor closer to an inadvertent reactor trip, the probability of a reactor trip is not significantly increased. One channel being inoperable is not a precursor to any accident and thus does not significantly increase the probability of occurrence of any accident previously evaluated. Due to the redundancy in the reactor trip logic, the channel remaining in an untripped condition still allows a two-out-of-three reactor trip logic. This ensures that even if another channel failed, the reactor trip, if required, would still function. Thus, the consequences of an accident are not significantly increased. Thus, the proposed change does not involve a significant increase in the probability of occurrence or consequences of an accident previously evaluated.

2. Does the change create the possibility of a new or different kind of accident from any accident previously evaluated?

The proposed changes do not involve hardware modifications or provide functional changes to the reactor protection system. The way in which the reactor protection is taken to a tripped condition remains the same, only the time-frame within which it is required to be placed in the tripped condition is extended. Allowing additional time before placing an inoperable channel in a tripped condition does not create the possibility of a new or different kind of accident.

3. Does the change involve a significant reduction in a margin of safety?

The margin of safety is not significantly reduced by allowing the proposed six hours prior to requiring an inoperable channel to be placed in a tripped condition. The proposed change does not alter the function of the reactor trip logic. The two-out-of-three reactor trip logic that will exist without the channel in a tripped condition continues to ensure that with a single failure of a second channel, the reactor trip function will still occur. Thus, the accident analyses remain protected. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By August 24, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room, located at One White Flint North, 11555 Rockville Pike (first floor), Rockville, Maryland, or electronically on the Internet at the NRC Web site http://www.nrc.gov/NRC/CFR/index.html. If there are problems in accessing the document, contact the Public Document Room Reference staff at 1-800-397-4209, 301-415-4737 or by email to pdr@nrc.gov. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to David W. Jenkins, Esq., Indiana Michigan Power Company, Nuclear Generation Group, One Cook Place, Bridgman, MI 49106, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated July 17, 2001, which is available for public inspection at the Commission's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room Reference staff at 1-800-397-4209, 301-415-4737 or by email to pdr@nrc.gov.

Dated at Rockville, Maryland, this 19th day of July 2001.
For the Nuclear Regulatory Commission.
Carl F. Lyon,
Project Manager, Section 1, Project Directorate III, Division of Licensing Project Management, Office of Nuclear Reactor Regulation.

[FR Doc. 01-18522 Filed 7-24-01; 8:45 am]

BILLING CODE 7590-01-P